DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by May 25, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal and Plant Health Inspection Service

Title: Domestic Quarantine Regulations.

OMB Control Number: 0579-0088.

Summary of Collection: Under the Plant Protection Act (7 U.S.C. 7701-7772) the Secretary of Agriculture is authorized to prohibit or restrict the importation, entry, or movement of plants and plant pests to prevent the introduction of plant pests into the United States or their dissemination within the United States. Plant Protection and Quarantine, a program within USDA's Animal and Plant Health Inspection Service (APHIS), is responsible for implementing this Act and does so through the enforcement of its domestic quarantine regulations contained in Title 7 of the Code of Federal Regulations, CFR part 301.

Administering these regulations requires APHIS to use various forms and documents to collect or record information from the variety of individuals who are involved in growing, packing, handling, or transporting, plants and plant products. The collected information is used to determine compliance with domestic quarantines necessary for regulating the movement of articles from infested areas to non-infested areas and ensuring injurious plant diseases and insect pests do not spread within the United States.

Need and Use of the Information: APHIS will collect information obtained through processing of applications for permits or certificates, requests for or during inspections, and processing of violation notices, agreements, and other actions. Information is collected from the growers, packers, shippers, and exporters of regulated articles to ensure that the articles, when moved from a quarantined area, do not harbor injurious plant diseases and insect pests. The information will be used to determine compliance with regulations and for issuance of permits, certificates, and other required documents.

Description of Respondents: State, Local or Tribal agricultural officials; Business or other for-profit; Farms; Individuals.

Number of Respondents: 8,821.

Frequency of Responses: Recordkeeping; Reporting: On occasion.

Total Burden Hours: 261,492.

Ruth Brown,
Departmental Information Collection Clearance Officer.

[FR Doc. 2023-08668 Filed 4-24-23; 8:45 am]

BILLING CODE 3410-34-P